CORPORATION FOR NATIONAL AND COMMUNITY SERVICE

45 CFR Part 2552

RIN 3045-AA30

Foster Grandparent Program; Amendments

AGENCY: Corporation for National and Community Service.

ACTION: Final rule.

SUMMARY: These amendments to the Final Regulation governing the Foster Grandparent Program include: providing increased flexibility to sponsors to determine the hours of service of Foster Grandparents; reducing restrictions on sponsors serving as volunteer stations; clarifying what income should be counted for purposes of determining income eligibility of an applicant to become a stipended Foster Grandparent; and improving access of persons with limited English speaking proficiency.

DATES: The amendments are effective October 28, 2002.

FOR FURTHER INFORMATION CONTACT: Peter L. Boynton, 202-606-5000, ext. 499.

SUPPLEMENTARY INFORMATION: The Corporation published a notice of proposed rulemaking (NPRM) for the Foster Grandparent Program, 45 CFR part 2552, in the Federal Register at 67 FR 18847, dated April 17, 2002.

Summary of Main Comments

In response to the Corporation's invitation in the NPRM, the Corporation received 20 letter and/or email responses addressing the proposed amendments to the Foster Grandparent rules. Ten were in full support of all of the proposed rules. One expressed support for the amendment concerning volunteer stations, without commenting on other provisions. Two expressed support for the amendment concerning service hours and/or projecting income, without commenting on the other provisions. Six supported lowering the service hour requirement to 10 hours and one sought a clarification. None opposed any of the proposed amendments. Following are the Corporation's responses to comments received:

Comment: With reference to § 2552.51, supported the lowering of the service requirement to a minimum of 10 rather than 15 hours per week.

Response: The Corporation understands the interest of some respondents to lower further the minimum service requirement. However, considering overall experience and the other comments received, the Corporation believes the proposed minimum of 15 hours provides sponsors and volunteers with sufficient flexibility.

Comment: With reference to § 2552.42(b), suggests that projected income should also be used in the case of Foster Grandparents who have experienced a change in circumstance.

Response: The provisions of § 2552.42 (b) provide for serving stipended Foster Grandparents that their annual income is counted for the past 12 months. If their income has decreased, they would remain eligible to receive a stipend. If it has increased, then the annual review of income eligibility specified in § 2552.23(h) would determine whether they continue to remain eligible for a stipend.

Comment: With reference to § 2552.51, asks how projects are expected to pay stipends of volunteers serving as much as 2088 hours per year.

Response: While the amended § 2552.51 provides that a single Foster Grandparent may serve up to 2088 hours per year, each sponsor's notice of grant award provides for delivery of an agreed upon number of volunteer service years (VSYs), defined as 1044 hours. Therefore, when the amendment goes into effect, the service of a single Foster Grandparent for 2088 hours will be equivalent to two VSYs.

Impact of Various Acts and Executive Orders

After carefully reviewing the changes implemented by this amendment, it was determined that:

(1) This was a significant regulatory action under section 3(f)(4) of Executive Order 12866 “Regulatory Planning and Review”, and required a review by the Office of Management and Budget;

(2) The Corporation hereby certifies that the Regulatory Flexibility Act does not apply because there is no “significant economic impact on a substantial number of small entities';

(3) That the Unfunded Mandates Reform Act of 1995 (2 U.S.C. chapter 25, subchapter II) does not apply because the amendment does not result in any annual expenditures of $100 million by State, local, Indian Tribal governments or the private sector;

(4) That the Paperwork Reduction Act does not apply because the amendments do not impose any additional reporting or record-keeping requirements;

(5) That the Small Business Regulatory Enforcement Fairness Act of 1996 does not apply because it is not a major rule as defined by section 251 of the Small Business Regulatory Enforcement Fairness Act of 1996, and would not result in an annual effect on the economy of $100 million or more; result in an increase in cost or prices; or have significant adverse effects on competition, employment, investment, productivity, innovation, or on the ability of United States-based companies to compete with foreign-based companies in domestic and export markets; and

(6) That Executive Order 13132, “ralism” does not apply because it would not have substantial direct effects on the States or the relationship between the national government and the States.

List of Subjects in 45 CFR Part 2552

Aged, Grant programs—social programs, Volunteers.

For the reasons set forth in the preamble, the Corporation for National and Community Service amends 45 CFR part 2552 as follows:

PART 2552—FOSTER GRANDPARENT PROGRAM

1. The authority citation for part 2552 continues to read as follows:

Authority: 42 U.S.C. 4950 et seq.

2. Revise § 2552.23(c)(2)(iv) to read as follows:

§ 2552.23 What are a sponsor's program responsibilities?

* * * * *

(c) * * *

(2) * * *

(iv) That states the station assures it will not discriminate against Foster Grandparents or in the operation of its program on the basis of race; color; national origin, including individuals with limited English proficiency; sex; age; political affiliation; religion; or on the basis of disability, if the participant or member is a qualified individual with a disability; and

* * * * *

3. In § 2552.42, revise paragraph (b) to read as follows:

§ 2552.42 What income guidelines govern eligibility to serve as a stipended Foster Grandparent?

* * * * *

(b) For applicants to become stipended Foster Grandparents, annual income is projected for the following 12 months, based on income at the time of application. For serving stipended Foster Grandparents, annual income is counted for the past 12 months. Annual income includes the applicant or enrollee's income and that of his/her spouse, if the spouse lives in the same residence. Sponsors shall count the value of shelter, food, and clothing, if provided at no cost by persons related to the applicant, enrollee, or spouse.

* * * * *

4. Revise § 2552.51 to read as follows:

§ 2552.51 What are the terms of service of a Foster Grandparent?

A Foster Grandparent shall serve a minimum of 15 hours per week and a maximum of 40 hours per week. A Foster Grandparent shall not serve more than 2088 hours per year. Within these limitations, a sponsor may set service policies consistent with local needs.

5. Revise § 2552.61 to read as follows:

§ 2552.61 May a sponsor serve as a volunteer station?

Yes, a sponsor may serve as a volunteer station, provided this is part of the application workplan approved by the Corporation.

Dated: September 23, 2002.
Tess Scannell,
Director, National Senior Service Corps.

[FR Doc. 02-24611 Filed 9-26-02; 8:45 am]

BILLING CODE 6050-$$-P